DEPARTMENT OF THE INTERIOR

Endangered and Threatened Species Permit Applications

AGENCY: Fish and Wildlife Service, Interior.

ACTION: Notice of Receipt of Applications.

SUMMARY: The following applicants have applied for a scientific research permit to conduct certain activities with endangered species pursuant to section 10(a)(1)(A) of the Endangered Species Act of 1973, as amended (16 U.S.C. 1531, et seq.).

DATES: Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, Ecological Services, P.O. Box 1306, Room 4102, Albuquerque, New Mexico 87103. Documents and other information submitted with these applications are available for review, subject to the requirements of the Privacy Act and Freedom of Information Act, by any party who submits a written request to the address above for a copy of such documents within 30 days of the date of publication of this notice.

SUPPLEMENTARY INFORMATION:

Permit No. TE-814841

Applicant: Desert Botanical Garden, Phoenix, Arizona.

Applicant requests an amendment to an existing permit to allow collection of seeds and vouchers of Canelo Hills ladies'-tresses (Spiranthes delitescens) from Santa Cruz County, Arizona.

Permit No. TE-061127

Applicant: Tierra Archaeological and Environmental Consultants, Tucson, Arizona.

Applicant requests a permit for research and recovery purposes to conduct presence/absence surveys for the following species: lesser long-nosed bat (Leptonycteris curasoae yerbabuenae), southwestern willow flycatcher (Empidonax traillii extimus), and cactus ferruginous pygmy owl (Glaucidium brasilianum cactorum). All surveys are to occur throughout the known range of each species, including locations within the states of Arizona, California, Colorado, New Mexico, Texas, and Utah. Applicant additionally requests authorization to conduct surveys for and transplant individuals of Pima pineapple cactus (Coryphantha scheeri var. robustispina) within Pima County, Arizona.

Permit No. TE-008187

Applicant: Stephanie Fudge, Hartford, Arkansas.

Applicant requests an amendment to an existing permit to allow presence/absence surveys for American burying beetle (Nicrophorus americanus) within Arkansas.

Permit No. TE-048579

Applicant: Kathlene Meadows, Tucson, Arizona.

Applicant requests an amendment to an existing permit to allow presence/absence surveys for southwestern willow flycatcher (Empidonax traillii extimus) within Arizona.

Permit No. TE-799158

Applicant: Oklahoma Museum of Natural History, Norman, Oklahoma.

Applicant requests an amendment to an existing permit to allow collection of the following species from within Texas: Big Bend gambusia (Gambusia gaigei), Clear Creek gambusia (Gambusia heterochir), and Pecos gambusia (Gambusia nobilis).

Permit No. TE-061728

Applicant: Christopher McDonald, Tucson, Arizona.

Applicant requests a permit for research and recovery purposes to allow collection and habitat manipulation of Pima pineapple cactus (Coryphantha scheeri var. robustispina) within Pima and Santa Cruz Counties, Arizona.

Permit No. TE-061084

Applicant: Kenneth Kingsley, Tucson, Arizona.

Applicant requests a permit for research and recovery purposes to conduct presence/absence surveys and salvage the following species where they are known to occur throughout Arizona, New Mexico, and Texas: lesser long-nosed bat (Leptonycteris curasoae yerbabuenae), Mexican long-nosed bat (Leptonycteris nivalis), black-footed ferret (Mustela nigripes), Hualapai Mexican vole (Microtus mexicanus hualpaiensis), southwestern willow flycatcher (Empidonax traillii extimus), black-capped vireo (Vireo atricapillus), golden-cheeked warbler (Dendroica chrysoparia), cactus ferruginous pygmy owl (Glaucidium brasilianum cactorum), Yuma clapper rail (Rallus longirostris yumanensis), Sonoran tiger salamander (Ambystoma tigrinum stebbinsi), desert pupfish (Cyprinodon macularius), Gila topminnow (Poeciliopsis occidentalis), humpback chub (Gila cypha), razorback sucker (Xyrauchen texanus), Virgin River chub (Gila robusta semidnuda), and woundfin (Plagopterus argentissimus).

Permit No. TE-053843

Applicant: Donna Achuff, Orange Grove, Texas.

Applicant requests an amendment to an existing permit to allow authorization to house and care for captive bred jaguarundi (Herpailurus yagouaroundi) within Jim Wells County, Texas.

Permit No. TE-022329

Applicant: Mike Warton and Associates, Cedar Park, Texas.

Applicant requests an amendment to an existing permit to allow presence/absence surveys and collection of the following species within Texas: Rhadine exilis (ground beetle, no common name), Rhadine infernalis (ground beetle, no common name), Batrisodes venyivi (Helotes mold beetle), Texella cokendolpheri (Cokendolpher cave harvestman), Cicurina baronia (Robber Baron cave meshweaver), Cicurina madla (Madla's cave meshweaver), Cicurina venii (Bracken Bat Cave meshweaver), Cicurina vespera (Government Canyon Bat Cave meshweaver), and Neoleptoneta microps (Government Canyon Bat Cave spider).

Permit No. TE-836329

Applicant: Blanton & Associates, Austin, Texas.

Applicant requests an amendment to an existing permit to allow presence/absence surveys for brown pelican (Pelecanus occidentalis) within Texas.

David C. Frederick,
Assistant Regional Director, Ecological Services, Region 2, Albuquerque, New Mexico.

[FR Doc. 02-25101 Filed 10-2-02; 8:45 am]

BILLING CODE 4310-55-P